DEPARTMENT OF ENERGY

Federal Energy Regulatory Commission

18 CFR Part 375 and 388

[Docket No. RM02-4, PL02-1-000]

Critical Energy Infrastructure Information

October 9, 2002.

AGENCY: Federal Energy Regulatory Commission, DOE.

ACTION: Notice of proposed rulemaking; extension of time.

SUMMARY: On September 5, 2002, the Commission issued a notice of proposed rulemaking to revise its regulations to restrict public availability of critical energy (67 FR 57994, September 13, 2002) date for filing comments is being extended at the request of American Rivers and members of the Hydropower Reform Coalition.

DATES: Comments are due on or before November 14, 2002.

ADDRESSES: Office of the Secretary, Federal Energy Regulatory Commission, 888 First Street, NE., Washington, DC 20426.

FOR FURTHER INFORMATION CONTACT: Carol C. Johnson, Office of the General Counsel, Federal Energy Regulatory Commission, 888 First Street, NE., Washington, DC 20426, (202) 502-8521.

SUPPLEMENTARY INFORMATION:

Policy Statement on the Treatment of Previously Public Documents; Notice of Extension of Time

On October 8, 2002, American Rivers and members of the Hydropower Reform Coalition (HRC) filed a request for a 30-day extension of time to file comments in response to the Commission's Notice of Proposed Rulemaking issued September 5, 2002 and published in the Federal Register on September 13, 2002 in Docket Nos. RM02-4-000 and PL02-1-000. The request states that the issues addressed in the NOPR are of significant importance to the HRC, and notes that the HRC is the largest cooperative public interest entity in the hydropower licensing field, and its members are working on approximately 75% of the Commission's open licensing cases. According to the request, additional time is needed to consult with other concerned organizations and to permit the HRC to prepare meaningful comments on the NOPR.

Upon consideration, notice is hereby given that an extension of time for filing responses to the Commission's September 5, 2002, NOPR is granted to and including November 14, 2002, as requested by the HRC.

Magalie R. Salas,
Secretary.

[FR Doc. 02-26489 Filed 10-21-02; 8:45 am]

BILLING CODE 6718-01-M